ENVIRONMENTAL PROTECTION AGENCY

[EPA-HQ-OAR-2021-0104; FRL-12850-01-OMS]

Agency Information Collection Activities; Submission to the Office of Management and Budget for Review and Approval; Comment Request; NESHAP for Refractory Products Manufacturing (Renewal)

AGENCY: Environmental Protection Agency (EPA).

ACTION: Notice.

SUMMARY: The Environmental Protection Agency (EPA) has submitted an information collection request (ICR), NESHAP for Refractory Products Manufacturing (EPA ICR Number 2040.11, OMB Control Number 2060-0515) to the Office of Management and Budget (OMB) for review and approval in accordance with the Paperwork Reduction Act. This is a proposed extension of the ICR, which is currently approved through June 30, 2025. Public comments were previously requested via the Federal Register on August 6, 2024 during a 60-day comment period. This notice allows for an additional 30 days for public comments.

DATES: Comments may be submitted on or before July 28, 2025.

ADDRESSES: Submit your comments, referencing Docket ID Number EPA-HQ-OAR-2021-0104, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through June 30, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for the regulations published at 40 CFR part 63, subpart SSSSS were proposed on June 20, 2002, promulgated on April 16, 2003, and most recently amended on November 19, 2021 (86 FR 66045). These regulations apply to each refractory products manufacturing facility which produces refractory bricks, refractory shapes, monolithics, kiln furniture, crucibles, and other materials used as linings for boilers, kilns, and other processing units and equipment where extreme temperature, corrosions, and abrasion would destroy other materials. These regulations apply to existing facilities and new facilities that manufacture refractory products and use organic hazardous air pollutant (HAP), chromium refractory, and clay refractory products. New facilities include those that commenced construction, modification, or reconstruction after the date of proposal. Revisions to the NESHAP were finalized on November 19, 2021 as a result of the residual risk and technology review (RTR) required under the Clean Air Act (CAA). This information is being collected to assure compliance with 40 CFR part 63, subpart SSSSS.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Refractory products manufacturing facilities.

Respondent's obligation to respond: Mandatory (40 CFR part 63, subpart SSSSS).

Estimated number of respondents: 3 (total).

Frequency of response: Initially and semiannually.

Total estimated burden: 341 hours (per year). Burden is defined at 5 CFR 1320.03(b).

Total estimated cost: $134,000 (per year), which includes $87,000 annualized capital or operation & maintenance costs.

Changes in the estimates: There is an increase of 111 hours in the total estimated respondent burden compared with the ICR currently approved by OMB. This increase is due to a correction of the estimated person-hours per occurrence and number of respondents per year for performance tests and reports. These estimates were updated in this ICR renewal based on information provided by industry through consultation as described in section 8 of the supporting statement. Additionally, corrections were made to remove burden and costs associated with notifications and reports of alternative fuel use. The rule does not allow alternative fuel use after November 19, 2021. The overall result is an increase in burden hours and costs. There is an increase in the capital/startup and operation and maintenance (O&M) costs as calculated in section 13 of the supporting statement compared with the costs in the previous ICR. The increase is due to cost increases from updating the CEPCI index to the 2023 index and corrections to the estimated costs for performance tests. The corrections are based on information provided by industry through consultation as described in section 8 of the supporting statement.

Courtney Kerwin,
Director, Information Engagement Division.

[FR Doc. 2025-11777 Filed 6-25-25; 8:45 am]

BILLING CODE 6560-50-P